DEPARTMENT OF HEALTH AND HUMAN SERVICES

Centers for Disease Control and Prevention

[Request for Application (RFA) AA103]

Rapid Strengthening and Expansion of Integrated Social Services for People Living With HIV/AIDS (PLWHA) in Mozambique; Notice of Intent To Fund Single Eligibility Award

A. Purpose

The Centers for Disease Control and Prevention (CDC) announces the intent to award fiscal year (FY) 2005 funds for a cooperative agreement program to provide anti-retroviral therapy (ART) to 110,000 people, care and support to 550,000 people, and preventing 506,379 new infections over the five years of emergency plan implementation in Mozambique. Key strategies include strengthening the capacity of national institutions, such as the Ministry of Health (MOH), the National AIDS Council (NAC) and the Ministry of Women and Social Welfare (MMAS), in order for them to develop and update national HIV/AIDS plans, strategies, guidelines, and training materials needed to institute services.

The Catalog of Federal Domestic Assistance number for this program is 93.067.

B. Eligible Applicant

Applications may be submitted by the Ministry of Women and Social Welfare (Ministério da Mulher e Acção Social) (MMAS) of the Republic of Mozambique. No other applications are solicited.

The Government of Mozambique has assigned overall responsibility to MMAS for coordinating care for orphans and vulnerable children and home visits for psychosocial support to PLWHA. The MOH is tasked with coordinating home health-care programs. To fulfill its mission to assist persons infected with or affected by HIV/AIDS, MMAS will need to work with a variety of organizations that provide social services, and with the MOH, to ensure smooth integration, avoiding the duplication of services. The purpose of this cooperative agreement is to enhance the ability of MMAS to coordinate these important HIV/AIDS mitigating activities.

C. Funding

Approximately $800,000 is available in FY 2005 to fund this award. It is expected that the award will begin on or before August 31, 2005, and will be made for a 12-month budget period within a project period of up to four years. Funding estimates may change.

D. Where To Obtain Additional Information

For general comments or questions about this announcement, contact: Technical Information Management, CDC Procurement and Grants Office, 2920 Brandywine Road, Atlanta, GA 30341-4146, Telephone: 770-488-2700.

For program technical assistance, contact: David Nelson, Project Officer, CDC/American Embassy, 2330 Maputo Place, Washington, DC 20521-2330, Telephone: 258 131 4747, E-mail: Nelsond@cdcmz.org.

For financial, grants management, or budget assistance, contact: Diane Flournoy, Grants Management Specialist, CDC Procurement and Grants Office, 2920 Brandywine Road, Atlanta, GA 30341, Telephone: 770-488-2072, E-mail: dflournoy@cdc.gov.

William P. Nichols,
Director, Procurement and Grants Office, Centers for Disease Control and Prevention.

[FR Doc. 05-15410 Filed 8-3-05; 8:45 am]

BILLING CODE 4163-18-P